DEPARTMENT OF HEALTH AND HUMAN SERVICES

Health Resources and Services Administration

Ryan White HIV/AIDS Program Part F; AIDS Education and Training Centers; National HIV Curriculum e-Learning Platform: Technology Operations and Maintenance Project

AGENCY: Health Resources and Services Administration (HRSA), Department of Health and Human Services.

ACTION: Notice of supplemental award.

SUMMARY: HRSA's HIV/AIDS Bureau will award $100,000 in supplemental funding to the University of Washington to support the AIDS Education and Training Centers' (AETC) National HIV Curriculum (NHC) e-Learning Platform: Technology Operations and Maintenance project in Fiscal Year (FY) 2020 and, pending the availability of funds, in each succeeding year of the project's period of performance. This supplemental funding will enable the recipient to implement technological enhancements to the NHC eLearning Platform to increase access and improve efficiency of new online training modules and learning activities that respond to specific needs, as identified, by Ending the HIV Epidemic: A Plan for America (EHE) initiative jurisdictions. These system enhancements will help increase the number of health professionals that have access to state of the art HIV treatment interventions and protocols.

FOR FURTHER INFORMATION CONTACT: Sherrillyn Crooks, Chief, HIV Education Branch, Office of Training and Capacity Development, HRSA, 5600 Fishers Lane, Room 9N110, Rockville, MD 20857, by email at scrooks@hrsa.gov or by phone at (301) 443-7662.

SUPPLEMENTARY INFORMATION:

Intended Recipient of the Award: The University of Washington, AIDS Education and Training.

Centers National HIV Curriculum e-Learning Platform: Technology Operations and Maintenance project.

Amount of Award: $100,000 is available in FY 2020.

Project Period: March 1, 2020-August 31, 2022.

CFDA Number: 93.145.

Authority: 42 U.S.C. 300ff-111(a) (section 2692(a) of the Public Health Service (PHS) Act), 42 U.S.C. 300ff-121 (section 2693 of the PHS Act), and Further Consolidated Appropriations Act, 2020 (Pub. L. 116-94).

Justification: The University of Washington currently manages the e-Learning platform, which hosts the AETC's web-based NHC. The NHC e-Learning Platform provides state of the art HIV care training and resources to providers nation-wide. With additional supplemental funding, the University of Washington will strengthen the existing capacity of the e-Learning platform to ensure that additional, up-to-date HIV treatment resources and information are available, with a special focus on jurisdictions targeted by the EHE initiative.

The supplemental award will enable the recipient to leverage its existing infrastructure to meet the learning needs of the HIV workforce in EHE designated areas. The recipient will be able to enhance and maintain an e-Learning Platform that provides a valuable and accessible tool designed to strengthen the skills and knowledge base of professionals that care for people with or at risk for HIV. In addition, supplemental funding will allow this recipient to ensure that providers in EHE target areas are aware of the National HIV Curriculum and know how to access and use it. Expanding the availability of state-of-the-art HIV care and treatment training resources will help prepare for the projected increase in demand for well-trained HIV care professionals as a result of the EHE rollout. This award recipient has the demonstrated expertise and scalable experience required to swiftly address these time-sensitive training and technical assistance needs.

Thomas J. Engels,
Administrator.

[FR Doc. 2020-07314 Filed 4-6-20; 8:45 am]

BILLING CODE 4165-15-P